POSTAL REGULATORY COMMISSION

[Docket No. PI2022-3; Order No. 6159]

Public Inquiry on Modification of Service Performance Measurement Plan

AGENCY: Postal Regulatory Commission.

ACTION: Notice.

SUMMARY: The Commission is recognizing a recently filed Postal Service request proposing modifications to its Service Performance Measurement Plan for market dominant products. This document informs the public of this proceeding, invites public comment, and takes other administrative steps.

DATES: Comments are due: May 18, 2022.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION: On April 22, 2022, the Postal Service filed a notice, pursuant to 39 CFR 3055.5, proposing revisions to its Service Performance Measurement (SPM) Plan for Market Dominant products.¹ The most recent version of the SPM Plan that is the subject of this proceeding was approved for implementation on September 28, 2021, in Docket No. PI2021-3.² Accompanying the Notice is a library reference, which contains a copy of the Postal Service's SPM Plan, revised April 22, 2022 (both redline and clean versions).³

¹ United States Postal Service Notice of Filing Changes to Service Performance Measurement Plan Document, April 22, 2022 (Notice).

² Docket No. PI2021-3, Order Approving Modifications to Market Dominant Service Performance Measurement Systems and Closing Docket, September 28, 2021 (Order No. 5989).

³ Library Reference USPS-LR-PI2022-3-1, April 22, 2022.

The Postal Service's proposed modifications include: “(1) A revision to how the long haul exception impacts `Start-the-Clock' events; (2) the inclusion of Reply Mail in the measurement of Single-Piece First-Class Letters/Cards/Flats; and (3) a revision to the critical entry time (CET) applicable to Periodicals,” as well as a variety of stylistic and grammatical changes. Notice at 1. The Postal Service asserts that these changes were developed in response to the recommendations of the Commission and the Public Representative in Docket No. PI2021-3 and will produce more accurate, reliable, and representative measurement of service performance by incorporating technological advancements to enhance measurement, updating business rules to leverage additional scan data, and promoting simplification of mail processing operations. Id. at 2-4.

Interested persons are invited to comment on the Postal Service's proposed revisions to its SPM Plan. Commenters are reminded that the scope of this docket is limited to the Postal Service's proposed revisions to its SPM Plan, not the propriety of any underlying service standard changes that have been or will be addressed by the Commission in a separate docket. Comments are due May 18, 2022. The Commission does not anticipate the need for reply comments at this time. The Commission intends to evaluate the comments received and use those suggestions to help carry out its service performance measurement responsibilities under Title 39 of the United States Code. Material filed in this docket will be available for review on the Commission's website, http://www.prc.gov. The Commission appoints Christopher C. Mohr to represent the interests of the general public (Public Representative) in this docket.

It is ordered:

1. Docket No. PI2022-3 is established for the purpose of considering the Postal Service's proposed revisions to its Service Performance Measurement Plan for its Market Dominant products.

2. Interested persons may submit written comments on any or all aspects of the Postal Service's proposals no later than May 18, 2022.

3. Christopher C. Mohr is designated to represent the interests of the general public in this docket.

4. The Secretary shall arrange for publication of this Notice in the Federal Register.

By the Commission.
Erica A. Barker,
Secretary.

[FR Doc. 2022-09309 Filed 4-29-22; 8:45 am]

BILLING CODE 7710-FW-P